FEDERAL COMMUNICATIONS COMMISSION

47 CFR Parts 20, 22, 24, 80, 90, 99

[GN Docket No. 93-252; FCC 00-66]

Petitions for Reconsideration; Regulation of Mobile Radio Services

AGENCY: Federal Communications Commission.

ACTION: Final rule; petitions for reconsideration.

SUMMARY: This document denies petitions for reconsideration of the Second Report and Order (Second R&O) in this proceeding, regarding regulatory treatment of mobile services. Some of the petitions are dismissed because they provide no new information warranting reconsideration of the Second R&O, and others are dismissed because the issues raised are either moot or beyond the scope of this proceeding.

FOR FURTHER INFORMATION CONTACT: Jane Phillips, 202-418-1310.

SUPPLEMENTARY INFORMATION: This is a summary of the Commission's Order in GN Docket No. 93-252, FCC 00-66, adopted February 25, 2000, and released March 10, 2000. The complete text of this document is available on the Commission's Internet site, at www.fcc.gov. It is also available for inspection and copying during normal business hours in the FCC Reference Information Center, Courtyard Level, 445 12th Street, SW, Washington, DC, and may be purchased from the Commission's copy contractor, International Transcription Services, Inc., CY-B400, 445 12th Street, SW, Washington, DC.

Synopsis of the Order

1. On February 3, 1994, the Commission adopted the CMRS Second Report and Order (59 FR 18493, April 19, 1994), which implemented revisions to sections 3(n) and 332 of the Communications Act of 1934, which were enacted in the Omnibus Budget Reconciliation Act of 1993. These revisions created a comprehensive framework for the regulation of mobile radio services, including existing common carrier mobile services, private land mobile services, and new services such as Personal Communications Services. Between May 19 and July 1, 1994, the Commission received 15 petitions for reconsideration of the CMRS Second Report and Order, 19 oppositions, and 12 reply comments addressing a broad range of issues. (A list of parties filing petitions for reconsideration, oppositions and comments, and reply comments to the oppositions may be found in Appendix A of the full text of this Order.)

2. Some issues raised by petitioners on reconsideration are outside the scope of the CMRS Second Report and Order and are dismissed on that basis. (see, for example, footnote 3 of the full text of the Order.) Many of the issues raised on reconsideration have subsequently given rise to, or been addressed in, separate proceedings. (see footnote 4 of the full text of the Order.) Still others, including several requests for clarification, have been rendered moot by other subsequent events or Commission actions. (See footnote 5 of the full text of the Order.) The Commission in the CMRS Second Report and Order addressed several of the remaining issues previously. Because none of the petitioners has presented new information or argument that would warrant reversal, the Commission denies these petitions.

3. The two remaining issues, raised by McCaw Cellular Communications, Inc., concern requests that the Commission preempt states from requiring CMRS providers to file informational tariffs and from imposing their own interconnection requirements on CMRS providers. In the absence of evidence in the record that states are attempting to exercise jurisdiction with respect to informational tariffs and CMRS interconnection requirements, there appears to be neither a reason to address these issues nor a record sufficient to support substantive decisions with respect to them. Consequently, the Commission denies this petition.

Ordering Clause

4. The petitions for reconsideration, or portions thereof, filed by the American Mobile Telecommunications Association, McCaw Cellular Communications, Inc., MCI Telecommunications Corporation, the Personal Communications Industry Association, and the National Cellular Resellers Association with respect to the CMRS Second Report and Order in GN Docket No. 93-252 are denied on the merits. The remaining petitions, or portions thereof, filed by the American Mobile Telecommunications Association, Ameritech, CUE Network Corporation, GTE Service Corporation, McCaw Cellular Communications, Inc., MCI Telecommunications Corporation, the National Association of Regulatory Utility Commissioners, the National Cellular Resellers Association, the New York Department of Public Service, Pacific Bell, the Pennsylvania Public Utility Commission, SEIKO Telecommunications Systems, Inc., and the Waterway Communications System, Inc. are dismissed because the issues raised are either moot or beyond the scope of this proceeding.

Federal Communications Commission.
Magalie Roman Salas,
Secretary.

[FR Doc. 00-7131 Filed 3-22-00; 8:45 am]

BILLING CODE 6712-01-P